ENVIRONMENTAL PROTECTION AGENCY

40 CFR Part 52

[EPA-R06-OAR-2015-0033; FRL-9925-20-Region 6]

Approval and Promulgation of Implementation Plans; Texas; Public Participation for Air Quality Permit Applications

AGENCY: Environmental Protection Agency (EPA).

ACTION: Proposed rule.

SUMMARY: The Environmental Protection Agency (EPA) is proposing to approve two provisions submitted by the State of Texas as revisions to the Texas State Implementation Plan (SIP) on July 2, 2010, specific to the applicability of the public notice requirements to applications for Plant-Wide Applicability (PAL) permits and standard permits for concrete batch plants without enhanced controls. Today's proposal and the accompanying direct final action will complete the rulemaking process started in our December 13, 2012, proposal and approve the public notice provisions into the Texas SIP. The EPA is proposing to convert the public notice applicability provisions for Texas Flexible Permits from a final conditional approval to a full approval. The EPA is proposing approval of these revisions pursuant to section 110 and parts C and D of the Federal Clean Air Act.

DATES: Written comments should be received on or before April 29, 2015.

ADDRESSES: Comments may be mailed to Ms. Adina Wiley, Air Permits Section (6PD-R), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Ms. Adina Wiley, 214-665-2115, wiley.adina@epa.gov.

SUPPLEMENTARY INFORMATION: In the final rules section of this Federal Register, the EPA is approving the State's SIP submittal as a direct final rule without prior proposal because the Agency views this as noncontroversial submittal and anticipates no adverse comments. A detailed rationale for the approval is set forth in the direct final rule. If no relevant adverse comments are received in response to this action no further activity is contemplated. If the EPA receives relevant adverse comments, the direct final rule will be withdrawn and those public comments received will be addressed in a subsequent final rule based on this proposed rule. The EPA will not institute a second comment period. Any parties interested in commenting on this action should do so at this time.

For additional information, see the direct final rule which is located in the rules section of this Federal Register.

Dated: March 16, 2015.
Samuel Coleman,
Acting Regional Administrator, Region 6.

[FR Doc. 2015-07123 Filed 3-27-15; 8:45 am]

BILLING CODE 6560-50-P